DEPARTMENT OF HEALTH AND HUMAN SERVICES

Centers for Disease Control and Prevention

[60Day-04-51]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project

Preventing Community-Associated Methicillin-Resistant Staphylococcus aureus (CA-MRSA) in Hawaii: Risk Factors and Outcomes for Infection in Children—New—National Center for Infectious Diseases (NCID), Centers for Disease Control and Prevention (CDC).

CDC, National Center for Infectious Diseases is planning to implement a research study to identify: (1) Risk factors for CA-MRSA infections in children, (2) modifiable risks factors, and (3) culture-specific issues to use in the prevention of CA-MRSA infections among Pacific Islanders.

S. aureus is one of the most common causes of serious skin and soft-tissue infections worldwide. Infections can be minor boils or abscesses, but often can progress to severe infections of muscle, bone, lung, or heart valves. Drug-resistant staphylococcal infections (MRSA) occur commonly among persons in hospitals and healthcare facilities. However, in the past few years these drug-resistant infections have caused illness in persons outside of healthcare setting in several states including Texas, Illinois, Minnesota, California, Georgia, Alaska, and most recently Hawaii.

In 2002, the Hawaii Department of Health detected a high prevalence of MRSA using laboratory-based surveillance and began receiving reports from local clinicians of an increase of skin and soft tissue infections associated with MRSA among persons in the community. In September 2003, an epidemiologic investigation in Hawaii demonstrated there was an increase in the number of CA-MRSA infections between 2001 and 2003 with higher prevalence of these infections among Pacific Islanders, especially children. Likewise, reports from outside the United States have indicated that CA-MRSA infections may be more frequent in Pacific Islander populations; however, there are no appreciable Native Hawaiian/Pacific Islander groups represented at the sites conducting CDC-supported population-based surveillance for CA-MRSA. Identification of the risks factors in this population will greatly assist efforts to implement activities for prevention of CA-MRSA infections among Pacific Islanders. There will be no cost to the respondents.

Forms | No. of respondents | No. of responses per respondents | Avg. burden per response (in hours) | Total burden hours
Telephone interview form 1 (cases and controls) | 240 | 1 | 30/60 | 120
Follow-up telephone interview form (cases only) | 120 | 1 | 15/60 | 30
Total |  |  |  | 150

Dated: April 29, 2004.
Alvin Hall,
Director, Management Analysis and Services Office, Centers for Disease Control and Prevention.

[FR Doc. 04-10420 Filed 5-6-04; 8:45 am]

BILLING CODE 4163-18-P